DEPARTMENT OF AGRICULTURE

Commodity Credit Corporation

7 CFR Part 1430

RIN 0560-AI66

[Docket No. FSA-2024-0001]

Dairy Margin Coverage Production History Adjustment and Program Extension; Correction

AGENCY: Commodity Credit Corporation (CCC) and Farm Service Agency (FSA), Department of Agriculture (USDA).

ACTION: Final rule; technical correction.

SUMMARY: CCC and FSA are making a technical correction to the Dairy Margin Coverage (DMC) regulations published on February 27, 2024. The technical correction will apply to the 2024 DMC coverage election period to allow dairy operations that dissolved prior to or during the 2024 DMC coverage election period the opportunity to enroll in 2024 DMC for the days they marketed milk in the 2024 calendar year.

DATES:

Effective: May 9, 2024.

Application deadline for dissolved dairies to apply for DMC: May 23, 2024.

FOR FURTHER INFORMATION CONTACT: Douglas Kilgore; telephone: (717) 887-0963; email: douglas.e.kilgore@usda.gov. Individuals who require alternative means of communication should contact the USDA TARGET Center at (202) 720-2600 (voice and text telephone (TTY)) or dial 711 for Telecommunications Relay Service (both voice and text telephone users can initiate this call from any telephone).

SUPPLEMENTARY INFORMATION:

Correction

FSA announced changes made to DMC in a final rule on February 27, 2024 (89 FR 14372-14376). FSA inadvertently omitted a modification in 7 CFR 1430.403 to allow dairy operations that dissolved in the 2024 calendar year prior to or during the 2024 DMC coverage election period, the opportunity to enroll in 2024 DMC for the days the dairy operations were still in business and commercially marketing milk.

This technical correction amends the DMC regulation in 7 CFR 1430.403(a)(1) by inserting “and 2024” to address the unintentional exclusion of dairy operations that dissolved and stopped commercially marketing milk in the 2024 calendar year at any time before or during the DMC 2024 enrollment period that began on February 2, 2024, and ends on April 29, 2024.

Under the February 27, 2024, final rule, to be approved for enrollment in DMC, participating dairy operations must certify that they are commercially marketing milk at the time of application for DMC. Most DMC annual enrollment periods occur before the start of the coverage year. However, DMC changes authorized by the Further Continuing Appropriations and Other Extensions Act, 2024 (Pub. L. 118-22) required that a regulatory amendment to DMC be published before the coverage election period for 2024 could begin. As a result, some dairy operations that were marketing milk early in 2024, but then dissolved, were not eligible for 2024 DMC for the days they marketed milk in 2024.

The technical correction to the rule is consistent with how dissolved dairy operations were treated during coverage election periods that did not begin before the start of the applicable DMC coverage year in the past. For example, in 2019, when the 2019 DMC coverage election period was delayed until mid-year, provisions were provided in the rule to allow dairy operations that dissolved in the 2019 calendar year prior to or during the 2019 coverage election period the opportunity to enroll in 2019 DMC and receive benefits for the days they were commercially marketing milk. This technical correction provides dissolved dairy operations the opportunity to enroll in 2024 DMC under provisions consistent with 2019 DMC implementation. This is also consistent with the Congressional intention that DMC be available to eligible dairy operations as of the start of the 2024 calendar year, as illustrated by section 102(g) of Title I of Division B of the Further Continuing Appropriations and Other Extensions Act, 2024, which provides for the extension of DMC, among other provisions, to be effective as of September 30, 2023.

To enroll, you must send your application for 2024 DMC to the administrative county FSA office serving the dairy operation. Participating dairy operations that dissolved in the 2024 calendar year prior to or during the 2024 DMC coverage election period may apply for DMC. The deadline for dissolved dairies to apply for DMC is May 23, 2024. This application is to enroll in 2024 DMC for the days the dissolved dairy operation was still in business and commercially marketing milk.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

List of Subjects in 7 CFR Part 1430

Dairy products, Fraud, Penalties, Price support programs, Reporting and recordkeeping requirements.

For the reasons discussed above, CCC amends 7 CFR part 1430 as follows:

PART 1430—DAIRY PRODUCTS

1. The authority citation for part 1430 continues to read as follows:

Authority: 7 U.S.C. 9051-9060 and 9071 and 15 U.S.C. 714b and 714c.

Subpart D—Dairy Margin Coverage Program

§ 1430.403 [Amended]

2. In § 1430.403, amend paragraph (a)(1) by removing the year “2019” and adding “2019 and 2024” in its place.

Zach Ducheneaux,
Administrator, Farm Service Agency, and Executive Vice President, Commodity Credit Corporation.

[FR Doc. 2024-10162 Filed 5-8-24; 8:45 am]

BILLING CODE 3410-E2-P